DEPARTMENT OF TRANSPORTATION

National Highway Traffic Safety Administration

49 CFR Parts 567 and 568

[Docket No. NHTSA-99-5673]

RIN 2127-AE27

Vehicles Built in Two or More Stages

AGENCY: National Highway Traffic Safety Administration (NHTSA), DOT.

ACTION: Notice of establishment of a negotiated rulemaking advisory committee and notice of meeting.

SUMMARY: NHTSA announces the establishment of a Negotiated Rulemaking Committee to develop recommended amendments to the existing NHTSA regulations (49 CFR parts 567, 568) governing the certification of vehicles built in two or more stages to the Federal motor vehicle safety standards (49 CFR part 571). The purpose of the amendments would be to assign certification responsibilities more equitably among the various participants in the multi-stage vehicle manufacturing process. The Committee will develop its recommendations through a negotiation process. The Committee will consist of persons who represent the interests that would be affected by the proposed rule, such as first-stage, intermediate and final-stage manufacturers of motor vehicles, equipment manufacturers, vehicle converters, testing facilities, trade associations that represent various manufacturing groups, and consumers. This notice also announces the time and place of the first advisory committee meeting. The public is invited to attend; an opportunity for members of the public to make oral presentations will be provided if time permits.

DATES: The meeting will be from 10:00 a.m. to 5:00 p.m. on Wednesday, May 10, 2000, and will continue from 9:00 a.m. to 3:00 p.m. on Thursday, May 11, 2000.

ADDRESSES: The meeting will take place at 1752 N Street, NW, Washington, DC.

FOR FURTHER INFORMATION CONTACT:

For non-legal issues, you may call Charles Hott, Office of Crashworthiness Standards, at 202-366-4920.

For legal issues, you may call Rebecca MacPherson, Office of the Chief Counsel, at 202-366-2992.

You may send mail to both of these officials at the National Highway Traffic Safety Administration, 400 Seventh St., SW, Washington, DC, 20590.

SUPPLEMENTARY INFORMATION:

I. Background

On May 20, 1999, the National Highway Traffic Safety Administration (NHTSA) published a notice of intent to establish an advisory committee (Committee) for a negotiated rulemaking to develop recommendations for regulations governing the certification of vehicles built in two or more stages. The notice requested comment on membership, the interests affected by the rulemaking, the issues that the Committee should address, and the procedures that it should follow. The reader is referred to that notice (64 FR 27499) for further information on these issues.

NHTSA received 17 comments on the notice of intent. All commenters endorsed the concept of using the negotiated rulemaking process for this subject. Commenters generally supported the proposed list of issues without specific comment.

Based on this response, and for the reasons stated in the notice of intent, we have determined that establishing an advisory committee on this subject is appropriate and in the public interest. In accordance with the Federal Advisory Committee Act (FACA; 5 U.S.C. App. I sec. 9(c)), we prepared a Charter for the Establishment of a Negotiated Rulemaking Advisory Committee. We intend to file the charter within fifteen (15) days from the date of this publication.

II. Membership

A total of 20 individuals were nominated or applied for membership to the Committee, either through written comments or through follow-up telephone calls.

In considering requests for representation on the Committee, we had to first determine whether the requesters represent interests significantly affected by the proposed rulemaking. As identified in the notice of intent, in addition to the Department of Transportation (DOT), these interests are: manufacturers of various stages of motor vehicles, equipment manufacturers, vehicle converters, testing facilities, trade associations that represent various manufacturing groups, and consumers of the affected vehicles.

Following is the list of Committee members, identified by interest. Members are encouraged to designate alternates who can serve in place of the member if necessary. As noted in the notice of intent, the Committee will make its decisions through a process of negotiation leading to consensus. “Consensus” means the unanimous concurrence among the interests represented on the Committee, unless the Committee explicitly adopts a different definition.

The meetings of the Committee will be facilitated by Phillip Harter and Alan Strasser of the Mediation Institute. The organizations and interests that will participate in the negotiated rulemaking are:

National Highway Traffic Safety Administration:

1. Rebecca MacPherson, Department of Transportation, NHTSA;

Incomplete Vehicle Manufacturers:

2. Timothy Blubaugh, Freightliner Corporation;

3. Lindsay Harding, Ford Motor Company;

4. Paul Murphy, Motor Coach Industries, International;

5. David Stensland, Navistar International Transportation Corporation;

6. Glenn Zuchniewicz, General Motors Corporation;

Component Manufacturers:

7. Jerome Loftus, Atwood Mobile Products;

8. Paul Wagner, Bornemann Products, Inc.

Final Stage Manufacturers:

9. Andy Callaway, Mark III Industries;

10. Phillip Headley, Environmental Industries Association;

11. David Humphreys, Recreational Vehicle Industry Association (RVIA);

12. Michael Kastner, National Truck Equipment Association (NTEA);

13. Mark Sidman, Ambulance Manufacturers Division, Manufacturers Council of Small School Buses, and Mid-Size Bus Manufacturers Association;

14. Thomas Turner, Blue Bird Body Company;

15. Becky Plank, National Mobility Equipment Dealers Association (NMEDA);

Dealers:

16. Douglas Greenhaus, National Automobile Dealers Association (NADA);

Testing Facilities:

17. John Phillips, Transportation Research Center (TRC);

Consumer Representatives:

18. Christopher Amos, National Association of Fleet Manufacturers;

19. Mark Edwards, AAA;

20. Clarence Ditlow, Center for Auto Safety;

21. Bob Herman, Paralyzed Veterans of America (PVA).

III. Participation by Non-Members

Meetings of the Committee will be open to the public so that individuals who are not part of the Committee may attend and observe. Any person attending the Committee meetings may address the Committee, if time permits, or file statements with the Committee.

IV. Key Issues for Negotiation

In its notice of intent, NHTSA tentatively identified major issues that should be considered in this negotiated rulemaking and asked for comment concerning the appropriateness of these issues for consideration and whether other issues should be added. These issues were:

• Equitable and effective allocation of certification responsibility;

• Enforcement issues relevant to each stage of manufacturing;

• Costs to regulated parties of testing or certification;

• Effects on safety;

• Effects on small businesses;

• Enforceability against later-stage manufacturers of standards that include dynamic testing;

• Feasibility and cost effectiveness of alternate methods (e.g., testing, computer modeling, or other as-yet-unspecified methods) to ensure compliance of completed vehicles with requirements of applicable FMVSSs;

• Mechanisms for incorporating alternate methods of ensuring compliance into these regulations;

• Mechanisms for sharing costs of testing;

• Requirements tailored to the capabilities and circumstances of each class of vehicles;

• Extended leadtime for implementation of FMVSSs for final-stage manufacturers;

• Recall and warranty responsibilities of manufacturers;

• Pass-through certification as a compliance option;

• Relative administrative/compliance burdens of certification on first-stage and later-stage manufacturers; and

• Scope of compliance “envelopes” prescribed by first-stage manufacturers and ability of intermediate- and final-stage manufacturers to stay within those envelopes.

Commenters neither objected to these issues nor suggested that additional issues be addressed. Accordingly, they will be the issues considered by the Committee.

V. Procedures and Schedule

Staff support for the Committee will be provided by NHTSA and the facilitator, and meetings will take place in Washington, DC, unless agreed otherwise by the Committee.

Consistent with FACA requirements, the facilitator will prepare summaries of each Committee meeting. These summaries and all documents submitted to the Committee will be placed in the public docket for this rulemaking.

As stated in the notice of intent, the Committee's objective is to prepare a report containing an outline of its recommendations for a notice of proposed rulemaking with suggestions for specific preamble and regulatory language based on the Committee's recommendations, as well as information relevant to a regulatory evaluation and an evaluation of the impacts of the proposal on small businesses.

NHTSA intends to accept the Committee recommendations, keeping in mind its statutory authority and other legal requirements. In the event that the agency rejects any of the recommendations, the preamble to a NPRM addressing the issues that were the subject of the negotiations will explain the reasons for the rejection.

VI. Authority

5 U.S.C. sections 561 et seq., delegation of authority at 49 CFR 1.50.

Issued on: April 14, 2000.
Stephen R. Kratzke,
Acting Associate Administrator for Safety Performance Standards.

[FR Doc. 00-9829 Filed 4-18-00; 8:45 am]

BILLING CODE 4910-59-P